FEDERAL COMMUNICATIONS COMMISSION

[MB Docket No. 04-228; DA 04-2085]

Elimination of Market Entry Barriers for Small Telecommunications Businesses and Allocations of Spectrum-Based Services for Small Businesses and Businesses Owned by Women and Minorities

AGENCY: Federal Communications Commission.

ACTION: Notice, extension of comment period.

SUMMARY: In this document, the Commission extends the period for comment and reply comment in this proceeding that seeks comment on constitutionally permissible ways for the Commission to further its legislative mandate to identify and eliminate market entry barriers for small telecommunications businesses and to further opportunities in the allocation of spectrum-based services for small businesses and businesses owned by women and minorities. The deadline to file comments is extended from July 22, 2004, to September 10, 2004, and the deadline to file reply comments is extended from August 6, 2004, to October 8, 2004. The action is taken to respond to a Motion for Extension of Time.

DATES: Comments are due on or before September 10, 2004, and reply comments are due on or before October 8, 2004.

ADDRESSES: Federal Communications Commission, Portals II, 445 12th Street, SW., Washington, DC 20554.

FOR FURTHER INFORMATION CONTACT: Julie Salovaara, Industry Analysis Division, Media Bureau, (202) 418-2330 or Julie.Salovaara@fcc.gov.

SUPPLEMENTARY INFORMATION: This is a synopsis of the Commission's Public Notice, DA-04-2085, in MB Docket No. 04-228, released on July 12, 2004. The full text of this Public Notice is available for inspection and copying during regular business hours in the FCC Reference Center, 445 12th Street, SW., Room CY-A257, Portals II, Washington, DC 20554, and may also be purchased from the Commission's copy contractor, Best Company and Printing, Inc., Room CY-B402, telephone (800) 378-3160, http://www.bcpiweb.com. To request materials in accessible formats for people with disabilities (electronic files, large print, audio format and Braille), send an e-mail to fcc504@fcc.gov or call the Consumer & Governmental Affairs Bureau at 202-418-0531 (voice), 418-7365 (TTY).

The Commission extends the comment period established in the previous Public Notice in this proceeding (69 FR 34672, June 22, 2004) from July 22, 2004, to September 10, 2004, and the reply comment deadline from August 6, 2004, to October 8, 2004. This action responds to a Motion for Extension of Time, filed July 2, 2004, by the Minority Media and Telecommunications Council (MMTC). MMTC explains that it expects to engage a consultant to help in preparing its comments, and seeks an extension of the comment and reply comment periods to allow sufficient time for its expert to analyze whether the Commission's studies and other literature in the field provide a basis for meeting the constitutional requirements applicable to race-conscious initiatives.

MMTC also states that the extension is needed to circulate the expert's conclusions once this analysis is completed and for MMTC to draft its comments. Given the complexity of the legal issues involved, the heightened constitutional standards that apply, and the Commission's consequent interest in obtaining a rigorous and comprehensive analysis, we believe that granting MMTC's extension request will serve the public interest.

Federal Communications Commission.
Thomas L. Horan,
Legal Advisor, Media Bureau.

[FR Doc. 04-16365 Filed 7-16-04; 8:45 am]

BILLING CODE 6712-01-P